DEPARTMENT OF TRANSPORTATION

Federal Aviation Administration

Meeting: RTCA Program Management Committee

AGENCY: Federal Aviation Administration (FAA), U.S. Department of Transportation (DOT).

ACTION: Notice of RTCA Program Management Committee meeting.

SUMMARY: The FAA is issuing this notice to advise the public of a meeting of RTCA Program Management Committee.

DATES: The meeting will be held March 18, 2014 from 8:30am-1:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a Program Management Committee meeting. The agenda will include the following:

March 18

• WELCOME AND INTRODUCTIONS

• REVIEW/APPROVE Meeting Summary

• December 18, 2014, RTCA Paper No. 032-14/PMC-1178

• PUBLICATION CONSIDERATION/APPROVAL

○ Final Draft, New Document, Safety, Performance and Interoperability Requirements Document for Traffic Situation Awareness with Alerts (TSAA), RTCA Paper No. 020-14/PMC-1177, prepared by SC-186

○ Final Draft, New Document, Architecture Recommendations for Aeronautical Information (AI) and Meteorological (MET) Data Link Services, RTCA Paper No. 017-14/PMC-1174, prepared by SC-206.

○ Final Draft, Change 1 to DO-224C—Signal-In-Space Minimum Aviation System Performance Standards (MASPS) for Advanced VHF Digital Data Communications Including Compatibility with Digital Voice Techniques, RTCA Paper No. 011-14/PMC-1169, prepared by SC-214.

○ Final Draft, Change 1 to DO-280B—Interoperability Requirements Standard for Aeronautical Telecommunication Network Baseline 1 (ATN B1 Interop Standards), RTCA Paper No. 009-14/PMC-1167, prepared by SC-214.

○ Final Draft, Change 1 to DO-281C—Minimum Operational Performance Standards (MOPS) for Aircraft VDL Mode 2 Physical Link and Network Layer, RTCA Paper No. 010-14/PMC-1168, prepared by SC-214.

○ Final Draft, New Document, Safety and Performance Standard for Baseline 2 ATS Data Communications, Initial Release, (Baseline 2 SPR Standard), RTCA Paper No. 012-14/PMC-1170, prepared by SC-214.

○ Final Draft, New Document, Interoperability Requirements Standard for Baseline 2 ATS Data Communications, Initial Release, (Baseline 2 Interop Standard), RTCA Paper No. 013-14/PMC-1171, prepared by SC-214.

○ Final Draft, New Document, Interoperability Requirements Standard for Baseline 2 ATS Data Communications, ATN Baseline 1 Accommodation, Initial Release, (ATN Baseline 1—Baseline 2 Interop Standard), RTCA Paper No. 014-14/PMC-1172, prepared by SC-214.

○ Final Draft, New Document, Interoperability Requirements Standard for Baseline 2 ATS Data Communication, FANS 1/A Accommodation, Initial Release, (FANS 1/A—Baseline 2 Interop Standard), RTCA Paper No. 015-14/PMC-1173, prepared by SC-214.

○ Final Draft, New Document, Detect and Avoid (DAA) White Paper, RTCA Paper No. 018-14/PMC-1175, prepared by SC-228.

○ Final Draft, New Document, Command and Control (C2) Data Link White Paper, RTCA Paper No. 019-14/PMC-1176, prepared by SC-228.

• INTEGRATION and COORDINATION COMMITTEE (ICC)

○ Activity Report.—ISRA Review.

• ACTION ITEM REVIEW

○ Ground Proximity Warning Equipment—Discussion—Possible New Special

○ PMC Ad Hoc—Standards Overlap and Alignment—Discussion—Status

○ PMC Ad Hoc—Part 23 ARC Report—Areas/Recommendations for RTCA Support—Discussion—Status

○ RTCA Policy on Propriety Information—Discussion

• DISCUSSION

○ Wake Vortex—Presentation—Review of industry developments that support renewed standards work

○ SC-206—Aeronautical Information Services (AIS) and Meteorological Data Link Services—Discussion—Revised Terms of Reference

○ C-225—Rechargeable Lithium Batteries and Battery Systems—Discussion—Revised Terms of Reference

○ NAC—Status Update

○ FAA Actions Taken on Previously Published Documents—Report

○ Special Committees—Chairmen's Reports and Active Inter-Special Committee Requirements Agreements (ISRA)—Review

○ European/EUROCAE Coordination—Status Update

• OTHER BUSINESS

• SCHEDULE for COMMITTEE DELIVERABLES and NEXT MEETING DATE

Attendance is open to the interested public but limited to space availability. With the approval of the chairman, members of the public may present oral statements at the meeting. Persons wishing to present statements or obtain information should contact the person listed in the “FOR FURTHER INFORMATION CONTACT” section. Members of the public may present a written statement to the committee at any time.

Issued in Washington, DC, on February 25, 2014.
Paige Williams,
Management Analyst,
NextGen, Business Operations Group,
Federal Aviation Administration.

[FR Doc. 2014-04638 Filed 2-28-14; 8:45 am]

BILLING CODE 4910-13-P